DEPARTMENT OF ENERGY

Office of Energy Efficiency and Renewable Energy

Wind and Water Power Program

AGENCY: Office of Energy Efficiency and Renewable Energy, Department of Energy.

ACTION: Notice of pre-solicitation public meeting, request for comment.

SUMMARY: The Wind and Water Power Program (WWPP) within the U.S. Department of Energy's (DOE) Office of Energy Efficiency and Renewable Energy intends to release a Funding Opportunity Announcement, tentatively entitled “U.S. Offshore Wind: Advanced Technology Demonstration Projects”. WWPP is planning a pre-solicitation public meeting in order to provide notice in advance of release of the FOA and to afford prospective applicants an opportunity to comment on the planned FOA, which is summarized in this notice.

DATES: DOE will hold a public meeting on Tuesday, February 7, 2012 from 9:30 a.m. to 12:30 p.m. EST. Written comments will be accepted through February 14, 2012.

ADDRESSES: The public meeting will be held at the L'Enfant Plaza Hotel, 480 L'Enfant Plaza Southwest, Washington, DC.

You may submit comments, identified by any of the following methods:

• Email: oswdemo@go.doe.gov. Include “U.S. Offshore Wind: Advanced Technology Demonstration Projects” in the subject line of the message.

• Postal Mail: Michael Hahn, Wind and Water Power Program, 1617 Cole Blvd. Golden, CO 80401. Please submit one signed paper original. Due to the potential delays in DOE's receipt and processing of mail sent through the U.S. Postal Service, DOE encourages respondents to submit comments electronically to ensure timely receipt.

• Hand Delivery/Courier: Michael Hahn, Wind and Water Power Program, 1617 Cole Blvd. Golden, CO 80401.

Minutes and video recorded proceedings of the public meeting will be made available for public review on the DOE Office of Energy Efficiency and Renewable Energy (EERE) Wind Program Web site at: wind.energy.gov.

FOR FURTHER INFORMATION CONTACT: Chris Hart, Offshore Wind Manager, EERE, U.S. Department of Energy, 1000 Independence Avenue SW., Washington, DC 20585. Telephone: (202) 374—3164. Email: chris.hart@ee.doe.gov.

SUPPLEMENTARY INFORMATION:

Background

One year ago, DOE, in partnership with the Department of Interior (DOI), released the National Offshore Wind Strategy. The Strategy addresses two critical objectives:

• Reduce the cost of energy through technology development to ensure competitiveness with other electrical generation sources, and

• Reduce the deployment timelines and uncertainties limiting U.S. offshore wind project development.

To realize these objectives, the DOE Wind and Water Power Program has developed a comprehensive approach and investment strategy to mobilize the offshore wind industry in the categories below:

• Technology Research and Development that will reduce cost of offshore wind energy through innovation and testing (19 offshore wind technology development projects to receive $26.5 million, announced September 2011);

• Research Addressing Market Barriers in order to facilitate deployment and reduce technical challenges facing the entire industry (22 market barrier removal projects to receive $16.5 million, announced September 2011);

• Advanced Technology Demonstration Projects that further the industry knowledge base for the benefit of all stakeholders (the subject of this meeting).

These initiatives support the demonstration and development of advanced offshore wind energy technologies in various water depths (freshwater, deepwater, shallow water, and transitional depth installations) and geographic locations (Atlantic, Pacific, Great Lakes, and Gulf of Mexico).

Pre-Solicitation Public Meeting

During the pre-solicitation public meeting, DOE will provide information on and accept comments regarding the planned Funding Opportunity Announcement (FOA), DE-FOA-0000410 including specifically the topical areas identified here:

• Types of demonstrations;

• Proposed timeframe and funding considerations;

• Proposed scope of efforts potentially covered by DOE funding;

• Anticipated types of data collection and use;

• Technology innovation and the ability to scale project solutions in order to achieve cost competitiveness.

The public meeting will include an introductory session that provides contextual background to the proposed FOA, including the National Offshore Wind Strategy, followed by an open question and answer forum. A complete agenda will be available at the meeting and in advance to pre-registrants.

Public Participation

The event is open to the public based upon space availability. DOE will also accept public comments as described above for purposes of developing the FOA, but will not respond individually to comments received.

Registration

Registration prior to the public meeting is not mandatory but is preferred to facilitate event planning. There is no cost to register. To register, please contact Stacey Young via email at Stacey_Young@sra.com or by telephone at 703-284-1397.

Information on Services for Individuals with Disabilities

Individuals requiring special accommodations at the meeting, please contact Stacey Young no later than the close of business on February 3, 2012.

Scope of Proposed FOA

DOE seeks to provide support for offshore wind advanced technology demonstration projects through collaborative partnerships. The primary goal of the demonstration projects is to expedite the development and deployment of innovative offshore wind energy systems with a strong potential for lowering the levelized cost of energy (LCOE) towards DOE's 2020 goal of 10 ¢/kWh.

Secondary goals are numerous and include but are not limited to:

1. Establishing world-class demonstration and test capabilities in conjunction with commercial developments to support validation of innovative technology, installation methods, and operation and maintenance strategies,

2. Establishing and validating the infrastructure required for offshore wind plant installation and operation,

3. Evaluating current siting and permitting processes and identifying opportunities for improvement,

4. Supporting development of a world-leading domestic offshore wind industry utilizing innovative technologies adapted to the North American environment and operating parameters, and

5. Familiarizing the public with the concept of offshore wind.

Given these goals, DOE seeks technology demonstration projects that combine innovation with developing pathways for substantial cost reduction opportunities. DOE will review all compliant applications, including ones with high risk concepts.

The final FOA will be focused solely on offshore wind energy projects. Applications for marine and hydrokinetic (MHK) energy sources, whether stand-alone or combined with offshore wind turbine support structures, will not be accepted.

DOE may fund specific technical research, engineering, and planning activities that demonstrably enhance the timely execution of innovative offshore wind energy projects and ultimately lead to project installation within the desired timeline. DOE funds may also support capital expenditures within these projects for materials or equipment that are clearly necessary to achieve the technology demonstration benefits of the project. Projects will be considered from all geographical regions, water depths, and technology areas including innovative technologies. The major goal is to make the levelized cost of energy of offshore wind competitive with conventional electricity. Applicants are encouraged to convey how project success will advance industry expertise in engineering, facility design, installation, and performance evaluation, and will help improve efficiencies in key Federal, State, or local siting, permitting, and environmental compliance processes such as the National Environmental Policy Act.

This FOA is covered by a special protected data statute. The provisions of the statute provide for the protection from public disclosure, for a period of up to 5 years from the development of the information, of data that would be trade secret, or commercial or financial information that is privileged or confidential, if the information had been obtained from a non-Federal party. Generally, the provision entitled, Rights in Data—Programs Covered Under Special Protected Data Statutes, (10 CFR 600 Appendix A to Subpart D) would apply to an award made under this announcement. This provision will identify data or categories of data first produced in the performance of the award that will be made available to the public, notwithstanding the statutory authority to withhold data from public dissemination, and will also identify data that will be recognized by the parties as protected data. It should be understood that all performance, engineering, operations and cost data first produced under this funding opportunity must be delivered to DOE and will be made available to the public to further the existing knowledge base for the benefit of the wind industry.

DOE and other Federal Agencies may be available to provide non-monetary assistance in supporting the project, such as utilization of Research Leases in Federal Waters. Applicants are encouraged to indicate how DOE can assist in this effort.

NO APPLICATIONS WILL BE ACCEPTED IN RESPONSE TO THIS NOTICE. Relevant portions of the draft FOA will be available on February 3, 2012 on the DOE Office of Energy Efficiency and Renewable Energy (EERE) Wind Program Web site at: wind.energy.gov/financial_opportunities.html. The final FOA will be available on or about February 29, 2012 through the EERE eXCHANGE Web site at https://eere-exchange.energy.gov. WWPP intends to conduct an informational Webinar after the final FOA is released.

Disclaimer

This Notice is issued so that interested parties are aware of and can comment on DOE's intention to issue this FOA. DOE reserves the right to change the requirements of any proposed FOA, issue a FOA involving only a portion of the elements listed, or not issue a FOA at all. Any of the information contained in this Notice is subject to change. Any amounts proposed for funding are subject to the availability of Congressional appropriations.

Issued in Washington, DC on January 27, 2012.
Jose Zayas,
Program Manager, Wind and Water Power Program, Energy Efficiency and Renewable Energy, Department of Energy.

[FR Doc. 2012-2264 Filed 1-30-12; 11:15 am]

BILLING CODE 6450-01-P